DEPARTMENT OF TRANSPORTATION

Federal Aviation Administration

14 CFR Part 39

[Docket No. FAA-2006-23733; Directorate Identifier 2006-CE-09-AD; Amendment 39-14481; AD 2006-03-17]

RIN 2120-AA64

Airworthiness Directives; Polskie Zaklady Lotnicze Spolka zo.o. Model PZL M26 01 Airplanes

AGENCY: Federal Aviation Administration (FAA), DOT.

ACTION: Final rule; request for comments.

SUMMARY: The FAA is adopting a new airworthiness directive (AD) for certain Polskie Zaklady Lotnicze Spolka zo.o. Model PZL M26 01 airplanes. This AD requires you to repetitively inspect fuselage frame No. XI for cracks and to replace fuselage frame No. XI and install reinforcement modifications if any cracks are found. The installation of reinforcement modifications is terminating action for the repetitive inspection requirement. This AD results from mandatory continuing airworthiness information (MCAI) issued by the airworthiness authority for the European Union. We are issuing this AD to detect and correct cracks in fuselage frame No. XI, which could result in failure of this frame. This failure could lead to failure of the tail section of the airplane.

DATES: This AD becomes effective on February 24, 2006.

As of February 24, 2006, the Director of the Federal Register approved the incorporation by reference of certain publications listed in the regulation.

We must receive any comments on this AD by March 13, 2006.

ADDRESSES: Use one of the following to submit comments on this AD:

• DOT Docket Web site: Go to ­ http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Polskie Zaklady Lotnicze Sp. zo.o., ul.Wojska Polskiego 3, 39-300 Mielec, Poland; telephone: 48 17 788 7440; facsimile: 48 17 788 7226.

To view the comments to this AD, go to http://dms.dot.gov. The docket number is FAA-2006-23733; Directorate Identifier 2006-CE-09-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The European Aviation Safety Agency (EASA), which is the airworthiness authority for the European Union, recently notified FAA that an unsafe condition may exist on certain Polskie Zaklady Lotnicze Spolka zo.o. Model PZL M26 01airplanes. The EASA reports that during the inspection of a Polskie Zaklady Lotnicze Spolka zo.o. Model PZL M26 01 airplane, cracks were found in frame no. XI at the rear of the fuselage.

The EASA further reports that the type certificate holder, Polskie Zaklady Lotnicze Spolka zo.o., believes that these cracks in the fuselage are due to excessive stresses generated by vertical tail loads when operating the airplane in the aerobatic category.

What is the potential impact if FAA took no action? Cracks in fuselage frame No. XI could result in failure of this frame and the tail section of the airplane.

Is there service information that applies to this subject? Polskie Zaklady Lotnicze Spolka zo.o. has issued Bulletin No. E/62.018/2005, dated November 30, 2005.

What are the provisions of this service information? The service bulletin includes procedures for:

—Inspecting for cracks in fuselage frame No. XI;

—Replacing fuselage frame No. XI; and

—Installing reinforcement modifications for fuselage frame No. XI.

What action did the EASA take? The EASA classified this service bulletin as mandatory and issued EASA AD Number 2006-0011-E, dated January 12, 2006, to ensure the continued airworthiness of these airplanes in the European Union.

Did the EASA inform the United States under the bilateral airworthiness agreement? These Polskie Zaklady Lotnicze Spolka zo.o. Model PZL M26 01 airplanes are manufactured in Poland (a member state of the European Union and EASA) and are type-certificated for operation in the United States under the provisions of section 21.29 of the Federal Aviation Regulations (14 CFR 21.29) and the applicable bilateral airworthiness agreement.

Under this bilateral airworthiness agreement, the EASA has kept us informed of the situation described above.

FAA's Determination and Requirements of This AD

What has FAA decided? We have examined the EASA's findings, reviewed all available information, and determined that we need to issue an AD for products of this type design that are certificated for operation in the United States.

Since the unsafe condition described previously is likely to exist or develop on other Polskie Zaklady Lotnicze Spolka zo.o. Model PZL M26 01 airplanes of the same type design that are registered in the United States, we are issuing this AD to detect and correct cracks in fuselage frame No. XI, which could result in failure of this frame and the tail section of the airplane.

What does this AD require? This AD requires you to incorporate the actions in the previously-referenced service bulletin.

In preparing this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include the docket number, “FAA-2006-23733; Directorate Identifier 2006-CE-09-AD” at the beginning of your comments. We will post all comments we receive, without change, to http://dms.dot.gov, including any personal information you provide. We will also post a report summarizing each substantive verbal contact with FAA personnel concerning this AD.

Using the search function of our docket web site, anyone can find and read the comments received into any of our dockets, including the name of the individual who sent the comment (or signed the comment on behalf of an association, business, labor union, etc.). This is docket number FAA-2006-23733; Directorate Identifier 2006-CE-09-AD. You may review the DOT's complete Privacy Act Statement in the Federal Register published on April 11, 2000 (65 FR 19477-78) or you may visit http://dms.dot.gov.

Are there any specific portions of this AD I should pay attention to? We specifically invite comments on the overall regulatory, economic, environmental, and energy aspects of this AD. If you contact us through a nonwritten communication and that contact relates to a substantive part of this AD, we will summarize the contact and place the summary in the docket. We will consider all comments received by the closing date and may amend this AD in light of those comments and contacts.

Docket Information

Where can I go to view the docket information? You may view the AD docket that contains the AD, any comments received, and any final disposition in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-23733; Directorate Identifier 2006-CE-09-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2006-03-17 Polskie Zaklady Lotnicze Spolka Zo.o.: Amendment 39-14481; Docket No. FAA-2006-23733; Directorate Identifier 2006-CE-09-AD.

When Does This AD Become Effective?

(a) This AD becomes effective on February 24, 2006.

Are Any Other ADs Affected by This Action?

(b) None.

What Airplanes Are Affected by This AD?

(c) This AD affects Model PZL M26 01, serial numbers 1APP01-01 and 1AP002-01 through 1AP002-06, that are certificated in any category.

What Is the Unsafe Condition Presented in This AD?

(d) This AD is the result of mandatory continuing airworthiness information (MCAI) issued by the European Aviation Safety Agency (EASA), the airworthiness authority, for the European Union. We are issuing this AD to detect and correct cracks in fuselage frame No. XI, which could result in failure of this frame. This failure could lead to the failure of the tail section of the airplane.

What Must I Do To Address This Problem?

(e) To address this problem, you must do the following:

Actions | Compliance | Procedures
(1) Inspect fuselage frame No. XI for any cracks | Before further flight after February 24, 2006 (the effective date of this AD). Thereafter, repetitively inspect every 20 hours time-in-service (TIS) until you do the installation of reinforcement modifications for fuselage frame No. XI required by paragraph (e)(2)(ii) of this AD | Follow Polskie Zaklady Lotnicze Sp. zo.o. Bulletin No. E/62.018/2005, dated November 30, 2005.
(2) If you find any cracks in fuselage frame No. XI as a result of any inspection required by paragraph (e)(1) of this AD, you must: (i) Remove and replace any cracked fuselage frame No. XI; and (ii) Do the installation of reinforcement modifications for fuselage frame No. XI. | Before further after the inspection required by paragraph (e)(1) of this AD. The installation of reinforcement modifications required by paragraph (e)(2)(ii) of this AD is the terminating action for the repetitive inspection requirements of paragraph (e)(1) of this AD | Follow Polskie Zaklady Lotnicze Sp. zo.o. Bulletin No. E/62.018/2005, dated November 30, 2005.
(3) Do not install any fuselage frame No. XI without also the reinforcement modifications required by paragraph (e)(2)(i) of this Ad | As of February 24, 2006 (the effective date of this AD) | Follow Polskie Zaklady Lotnicze Sp. zo.o. Bulletin No. E/62.018/2005, dated November 30, 2005.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Doug Rudolph, Aerospace Engineer, FAA, Small Airplane Directorate, 901 Locust, Room 301, Kansas City, Missouri 64106; telephone: (816) 329-4059; facsimile: (816) 329-4090.

May I Reposition or Obtain a Special Flight Permit for the Requirements of this AD?

(g) No. After February 24, 2006 (the effective date of this AD), you may not operate the airplane to return/position the airplane to a home base, hangar, maintenance facility, or other location for the purpose of meeting the initial inspection requirements of paragraph (e)(1) of this AD. Special flight permits are prohibited for the purpose of meeting the replacement or reinforcement requirements of paragraphs (e)(2)(i) or (e)(2)(ii) of this AD. The condition is of the nature that continued flight past the effective date of this AD could severely jeopardize safety of flight.

Is There Other Information That Relates to This Subject?

(h) EASA AD Number 2006-0011-E, dated January 12, 2006, also addresses the subject of this AD.

Does This AD Incorporate Any Material by Reference?

(i) You must do the actions required by this AD following the instructions in Polskie Zaklady Lotnicze Sp. zo.o. Bulletin No. E/62.018/2005, dated November 30, 2005. The Director of the Federal Register approved the incorporation by reference of this service bulletin in accordance with 5 U.S.C. 552(a) and 1 CFR part 51. To get a copy of this service information, contact Polskie Zaklady Lotnicze Sp. zo.o., ul. Wojska Polskiego 3, 39-300 Mielec, Poland; telephone: 48 17 788 7440; facsimile: 48 17 788 7226. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is Docket No. FAA-2006-23733; Directorate Identifier 2006-CE-09-AD.

Issued in Kansas City, Missouri, on February 3, 2006.
John R. Colomy,
Acting Manager, Small Airplane Directorate, Aircraft Certification Service.

[FR Doc. 06-1198 Filed 2-9-06; 8:45 am]

BILLING CODE 4910-13-P